ENVIRONMENTAL PROTECTION AGENCY

40 CFR Part 52

[R03-OAR-2005-PA-0007; FRL-7893-1]

Approval and Promulgation of Air Quality Implementation Plans; Pennsylvania; NOX RACT Determinations for Fifteen Individual Sources

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) fifteen major sources of volatile organic compounds and nitrogen oxides (NOX). These sources are located in Pennsylvania. EPA is approving these revisions to establish RACT requirements in the SIP in accordance with the Clean Air Act (CAA).

DATES: This rule is effective on May 31, 2005, without further notice, unless EPA receives adverse written comment by May 2, 2005. If EPA receives such comments, it will publish a timely withdrawal of the direct final rule in the Federal Register and inform the public that the rule will not take effect.

ADDRESSES: Submit your comments, identified by Regional Material in EDocket (RME) ID Number R03-OAR-2005-PA-0007 by one of the following methods:

A. Federal eRulemaking Portal: http://www.regulations.gov. Follow the on-line instructions for submitting comments.

B. Agency Web site: http://www.docket.epa.gov/rmepub/ RME, EPA's electronic public docket and comment system, is EPA's preferred method for receiving comments. Follow the on-line instructions for submitting comments.

C. E-mail: morris.makeba@epa.gov.

D. Mail: R03-OAR-2005-PA-0007, Makeba Morris, Chief, Air Quality Planning Branch, Mailcode 3AP21, U.S. Environmental Protection Agency, Region III, 1650 Arch Street, Philadelphia, Pennsylvania 19103.

E. Hand Delivery: At the previously-listed EPA Region III address. Such deliveries are only accepted during the Docket's normal hours of operation, and special arrangements should be made for deliveries of boxed information.

Instructions: Direct your comments to RME ID No. R03-OAR-2005-PA-0007. EPA's policy is that all comments received will be included in the public docket without change, and may be made available online at http://www.docket.epa.gov/rmepub/, including any personal information provided, unless the comment includes information claimed to be Confidential Business Information (CBI) or other information whose disclosure is restricted by statute. Do not submit information that you consider to be CBI or otherwise protected through RME, regulations.gov or e-mail. The EPA RME and the Federal regulations.gov Web sites are an “anonymous access” system, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://www.docket.epa.gov/rmepub/. Although listed in the index, some information is not publicly available, i.e., CBI or other information whose disclosure is restricted by statute. Certain other material, such as copyrighted material, is not placed on the Internet and will be publicly available only in hard copy form. Publicly available docket materials are available either electronically in RME or in hard copy during normal business hours at the Air Protection Division, U.S. Environmental Protection Agency, Region III, 1650 Arch Street, Philadelphia, Pennsylvania 19103. Copies of the State submittal are available at the Pennsylvania Department of Environmental Protection, Bureau of Air Quality, P.O. Box 8468, 400 Market Street, Harrisburg, Pennsylvania 17105.

FOR FURTHER INFORMATION CONTACT: LaKeshia Robertson, (215) 814-2113, or by e-mail at robertson.lakeshia@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing RACT for three classes of VOC sources are required under section 182(b)(2). The categories are:

(1) All sources covered by a Control Technique Guideline (CTG) document issued between November 15, 1990, and the date of attainment;

(2) All sources covered by a CTG issued prior to November 15, 1990; and

(3) All major non-CTG sources.

The Pennsylvania SIP already has approved RACT regulations and requirements for all sources and source categories covered by the CTGs. The Pennsylvania SIP also has approved regulations to require major sources of NOX and additional major sources of VOC emissions (not covered by a CTG) to implement RACT. These regulations are commonly termed the “generic RACT regulations”. A generic RACT regulation is one that does not, itself, specifically define RACT for a source or source categories but instead establishes procedures for imposing case-by-case RACT determinations. The Commonwealth's SIP-approved generic RACT regulations consist of the procedures PADEP uses to establish and impose RACT for subject sources of VOC and NOX. Pursuant to the SIP-approved generic RACT rules, PADEP imposes RACT on each subject source in an enforceable document, usually a Plan Approval (PA) or Operating Permit (OP). The Commonwealth then submits these PAs and OPs to EPA for approval as source-specific SIP revisions.

It must be noted that the Commonwealth has adopted and is implementing additional “post RACT requirements” to reduce seasonal NOX emissions in the form of a NOX cap and trade regulation, 25 Pa Code Chapters 121 and 123, based upon a model rule developed by the States in the OTR. That regulation was approved as SIP revision on June 6, 2000 (65 FR 35842). Pennsylvania has also adopted 25 Pa Code Chapter 145 to satisfy Phase I of the NOX SIP call. That regulation was approved as a SIP revision on August 21, 2001 (66 FR 43795). Federal approval of a source-specific RACT determination for a major source of NOX in no way relieves that source from any applicable requirements found in 25 PA Code Chapters 121, 123 and 145.

On August 30, 2004, PADEP submitted revisions to the Pennsylvania SIP which establish and impose RACT for fifteen sources of NOX. The Commonwealth's submittals consist of PAs and OPs which impose NOX RACT requirements for each source.

II. Summary of the SIP Revisions

Copies of the actual PAs and OPs imposing RACT and PADEP's evaluation memoranda are included in the electronic and hard copy docket for this final rule. As previously stated, all documents in the electronic docket are listed in the RME index at http://www.docket.epa.gov/rmepub/. Publicly available docket materials are available either electronically in RME or in hard copy during normal business hours at the Air Protection Division, U.S. Environmental Protection Agency, Region III, 1650 Arch Street, Philadelphia, Pennsylvania 19103. Copies of the State submittal are available at the Pennsylvania Department of Environmental Protection, Bureau of Air Quality, P.O. Box 8468, 400 Market Street, Harrisburg, Pennsylvania 17105. The table below identifies the sources and the individual PAs and OPs which are the subject of this rulemaking.

Pennsylvania—VOC and NOX RACT Determinations for Individual Sources
Source | County | Plan approval (PA #) Operating permit (OP #) | Source type | “Major source” pollutant
Owens-Brockway Glass Container, Inc | Clarion | OP 16-010 | Two Furnaces, Two Refiners, Seven Forehearths, and Seven Lehrs | NOX.
Alcoa Extrusions, Inc | Schuylkill | 54-0022 | Boilers, Furnaces, Casting Units, Ovens, and Vaporizer | NOX.
Pennsylvania Electric Company | Indiana | 32-000-059 | Boilers, Diesel Generators, and Miscellaneous Sources | NOX.
National Gypsum Company | Union | OP-60-0003 | Two Boilers | NOX.
Stoney Creek Technologies, LLC | Delaware | OP-16-010 | Two Steam Boilers | NOX.
Northeastern Power Company | Schuylkill | 54-0008 | Boiler, Diesel Fire Pump, Diesel Boiler Water Feed Pump, and Generators | NOX.
Koppers Industries, Inc | Lycoming | OP-41-0008 | Boilers, Fire Pump, Furnace, and Heaters | NOX.
Texas Eastern Transmission Corporation | Dauphin | 22-2100 | Turbines and Generator | NOX.
The Miller Group | Schuylkill | 54-0024 | Boiler, Textile Dryers, Air Make-up, and Unit Heaters | NOX.
CNG Transmission Corporation | Indiana | 32-000-129 | Dehydrator Reboiler and Four Ingersoil Engines | NOX.
I.H.F.P., Inc | Northumberland | OP-49-0010A | Eight Boilers and Seventy Seven Small Combustion Sources | NOX.
National Forge Company | Warren | OP 62-032 | Two Boilers and Thirty-Five Furnaces | NOX.
United Refining Company | Warren | OP 62-017 | Five Boilers, Four Heaters, and Regenerator | NOX.
Petrowax Refining | McKean | OP 42-110 | Four Boilers, Flares, Heaters and Burner | NOX.
Westvaco Corporation | Blair | 07-2008 | Two Boilers and Emergency Generator | NOX.

EPA is approving these RACT SIP submittals because PADEP established and imposed these RACT requirements in accordance with the criteria set forth in its SIP-approved generic RACT regulations applicable to these sources. The Commonwealth has also imposed record-keeping, monitoring, and testing requirements on these sources sufficient to determine compliance with the applicable RACT determinations.

III. Final Action

EPA is approving the revisions to the Pennsylvania SIP submitted by PADEP to establish and require NOX RACT for fifteen major of sources. EPA is publishing this rule without prior proposal because the Agency views this as a noncontroversial amendment and anticipates no adverse comment. However, in the “Proposed Rules” section of today's Federal Register, EPA is publishing a separate document that will serve as the proposal to approve the SIP revision if adverse comments are filed. This rule will be effective on May 31, 2005, without further notice unless EPA receives adverse comment by May 2, 2005. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 15 named sources.

C. Petitions for Judicial Review

Under section 307(b)(1) of the Clean Air Act, petitions for judicial review of this action must be filed in the United States Court of Appeals for the appropriate circuit by May 31, 2005. Filing a petition for reconsideration by the Administrator of this final rule approving source-specific RACT requirements for fifteen sources in the Commonwealth of Pennsylvania does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Nitrogen dioxide, Ozone, Reporting and recordkeeping requirements.

Dated: March 24, 2005.
Donald S. Welsh,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph (d)(1) is amended by adding the entries for Owens-Brockway Glass Container, Inc., Alcoa Extrusion, Inc., Pennsylvania Electric Company, National Gypsum Company, Stoney Creek Technologies, LLC, Northeastern Power Company, Koppers Industries, Inc., Texas Eastern Transmission, The Miller Group, CNG Transmission Corporation, I.H.F.P., Inc., National Forge Company, United Refining Company, Petrowax Refining, and Westvaco Corporation at the end of the table to read as follows:

§ 52.2020 Identification of plan.

* * * * *

(d) * * *

Name of source | Permit No. | County | State effective date | EPA approval date | Additional explanation/§ 52.2063 citation
* * * * * * *
Owens-Brockway Glass Container, Inc | OP 16-010 | Clarion | 3/27/95 5/31/95 | 3/31/05 [Insert page number where the document begins] | 52.2020(d)(1)(f)
Alcoa Extrusion, Inc | 54-0022 | Schuylkill | 3/19/99 | 3/31/05 [Insert page number where the document begins] | 52.2020(d)(1)(f)
Pennsylvania Electric Company | 32-000-059 | Indiana | 12/29/94 | 3/31/05 [Insert page number where the document begins] | 52.2020(d)(1)(f)
National Gypsum Company | OP-60-0003 | Union | 1/17/96 | 3/31/05 [Insert page number where the document begins] | 52.2020(d)(1)(f)
Stoney Creek Technologies, LLC | OP-16-010 | Delaware | 7/24/03 | 3/31/05 [Insert page number where the document begins] | 52.2020(d)(1)(f)
Northeastern Power Company | 54-0008 | Schuylkill | 5/26/95 | 3/31/05 [Insert page number where the document begins] | 52.2020(d)(1)(f)
Koppers Industries, Inc | OP-41-0008 | Lycoming | 3/30/99 | 3/31/05 [Insert page number where the document begins] | 52.2020(d)(1)(f)
Texas Eastern Transmission Corporation | 22-2100 | Dauphin | 1/31/97 | 3/31/05 [Insert page number where the document begins] | 52.2020(d)(1)(f)
The Miller Group | 54-0024 | Schuylkill | 2/1/99 | 3/31/05 [Insert page number where the document begins] | 52.2020(d)(1)(f)
CNG Transmission Corporation | 32-000-129 | Indiana | 6/22/95 | 3/31/05 [Insert page number where the document begins] | 52.2020(d)(1)(f)
I.H.F.P., Inc | OP-49-0010A | Northumberland | 1/7/98 | 3/31/05 [Insert page number where the document begins] | 52.2020(d)(1)(f)
National Forge Company | OP 62-032 | Warren | 5/31/95 | 3/31/05 [Insert page number where the document begins] | 52.2020(d)(1)(f)
United Refining Company | OP 62-017 | Warren | 5/31/95 11/14/95 | 3/31/05 [Insert page number where the document begins] | 52.2020(d)(1)(f)
Petrowax Refining | OP 42-110 | McKean | 3/4/96 5/31/96 | 3/31/05 [Insert page number where the document begins] | 52.2020(d)(1)(f)
Westvaco Corporation | 07-2008 | Blair | 9/29/95 | 3/31/05 [Insert page number where the document begins] | 52.2020(d)(1)(f)

[FR Doc. 05-6376 Filed 3-30-05; 8:45 am]

BILLING CODE 6560-50-P